DEPARTMENT OF THE INTERIOR

Bureau of Land Management

[LLORB050; L17220000.LV0000.HX091520; OR-66276; HAG12-0004]

Notice of Realty Action: Proposed Direct Sale of Public Land in Harney County, OR

AGENCY: Bureau of Land Management, Interior.

ACTION: Notice.

SUMMARY: The Bureau of Land Management (BLM) proposes to sell a 5-acre parcel of public land in Harney County, Oregon, by direct sale procedures to Allan and Ethel Bossuot for the approved appraised fair market value of $13,200.

DATES: The BLM must receive comments regarding the proposed sale on or before August 27, 2012.

ADDRESSES: Written comments concerning this proposed sale may be submitted to Three Rivers Resource Area Field Manager, BLM Burns District Office, 28910 Hwy 20 West, Hines, Oregon 97738.

FOR FURTHER INFORMATION CONTACT: Tara McLain, Realty Specialist, at 28910 Hwy 20 West, Hines, Oregon 97738 or phone 541-573-4462. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Pursuant to Section 203 of the Federal Land Policy and Management Act of 1976 (FLPMA), as amended (43 U.S.C. 1713), and regulations at 43 CFR subpart 2710 (43 CFR 2710), this conveyance would be made by direct sale procedures to Allan and Ethel Bossuot to resolve an inadvertent occupancy trespass that has been in existence since 1902 for the land described as follows:

Willamette Meridian

T. 20 S., R. 29 E.,

Sec. 34, E½SE¼SE¼SW¼.

Containing 5 acres, more or less, in Harney County.

A Notice of Intent was published July 21, 2011, to amend the BLM Three Rivers Resource Management Plan (RMP) for Land Tenure. The 1992 BLM Three Rivers RMP did not identify this parcel of public land as suitable for disposal. However, due to the topography and land ownership patterns surrounding the parcel, it is difficult and uneconomic to manage as public land. The rim rock that exists above the parcel essentially cuts it off from access for management by the BLM. The Decision Record amending the BLM Three Rivers RMP for Land Tenure was signed by the State Director on November 28, 2011. There were no protests filed to the Decision Record; therefore, the Decision became final on December 28, 2011.

The BLM is proposing a direct sale of the 5-acre parcel which is the smallest legal subdivision that would wholly encompass the improvements that have been in existence on the parcel since 1902. A direct sale is appropriate because the current lessees have used/occupied buildings located on this parcel. The public interest would be best served by disposing of this parcel to the user/occupant by direct sale. The Federal government would retain the rights to the minerals. Any patent issued would be subject to all valid existing rights of record and contain the following terms, conditions, and reservations:

a. A reservation of a right-of-way to the United States for ditches and canals constructed by the authority of the United States under the Act of August 30, 1890 (43 U.S.C. 945);

b. The sale would be subject to the requirements of Section 120(h) of the Comprehensive Environmental Response, Compensation and Liability Act, 42 U.S.C. 9620(h); and,

c. A reservation to the United States for all minerals including, oil and gas and geothermal minerals.

Detailed information concerning the proposed land sale including the appraisal, planning and environmental documents, and mineral report are available for review at the BLM Burns District Office at the location identified in the ADDRESSES section above. Normal business hours are 7:45 a.m. to 4:30 p.m., Monday through Friday, except Federal holidays.

Public comments regarding the proposed sale may be submitted in writing to the BLM Three Rivers Resource Area Field Manager (see ADDRESSES section) on or before August 27, 2012. Comments received by telephone or in electronic form, such as email or facsimile, will not be considered. Any adverse comments regarding the proposed sale will be reviewed by the BLM Oregon/Washington State Director or other authorized official of the Department of the Interior, who may sustain, vacate, or modify this realty action in whole or in part. In the absence of timely filed objections, this realty action will become the final determination of the Department of the Interior not less than 60 days from July 11, 2012.

Before including your address, phone number, email address, or other personal identifying information in your comment; you should be aware that your entire comment—including your personal identifying information—may be made publicly available at any time. While you can ask us in your comment to withhold your personal identifying information from public review, we cannot guarantee that we will be able to do so.

Authorities: 43 CFR 2710.3-1, 2711.1-2.

Fred O'Ferrall,
Chief, Branch of Land, Mineral and Energy Resources.

[FR Doc. 2012-16910 Filed 7-10-12; 8:45 am]

BILLING CODE 4310-33-P